DEPARTMENT OF COMMERCE

Bureau of the Census

[Docket Number 170629607-7607-01]

Limited-Access Highway Classification Codes

AGENCY: Bureau of the Census, Commerce.

ACTION: Notice of final change.

SUMMARY: The Bureau of the Census (U.S. Census Bureau) publishes this notice to announce the upcoming change in the classification of limited-access highways in the Census Bureau's Master Address File/Topologically Integrated Referencing and Encoding (MAF/TIGER) System. The change assigns all limited-access highways a MAF/TIGER Feature Classification Code (MTFCC) of S1100 (Primary Roads). Previously, the classification code for limited-access highways was either S1100 (Primary Roads) or S1200 (Secondary Roads).

DATES: This notice will be effective on August 18, 2017.

FOR FURTHER INFORMATION CONTACT: David Cackowski, (301) 763-5423, or at g.david.cackowski@census.gov, Geography Division, U.S. Census Bureau, 4600 Silver Hill Road, Washington, DC 20233; or also by email at geo.geography@census.gov.

SUPPLEMENTARY INFORMATION:

A. Background

MAF/TIGER System is an abbreviation for the Master Address File/Topologically Integrated Geographic Encoding and Referencing System. It is a digital (computer-readable) geographic database that automates the mapping and related geographic activities required to support the Census Bureau's census and survey programs. The Census Bureau developed TIGER to automate the geographic support processes needed to meet the major geographic needs of the 1990 census: Producing cartographic products to support data collection and map presentations, providing geographic structure for tabulation and dissemination of the collected statistical data, assigning residential and employer addresses to the correct geographic location and relating those locations to the geographic entities used for data tabulation, and so forth. During the 1990s, the Census Bureau developed an independent Master Address File (MAF) to support field operations and allocation of housing units for tabulations. After Census 2000, both the address-based MAF and geographic TIGER databases merged to form the MAF/TIGER System. The contents of the MAF/TIGER System undergo continuous updating and are made available to the public through a variety of TIGER products such as shapefiles, geodatabases, and web map services.

B. Final Change

The Census Bureau issued in the Federal Register a notice and request for comment on the limited-access highway code change on April 25, 2017 (82 FR 19020). We did not receive any comments on that initial notice, therefore this is an announcement of the upcoming final change. Please see the earlier Federal Register notice (82 FR 19020, April 25, 2017) for a discussion of the proposed changes and rationale for doing so.

The Census Bureau publishes this notice to announce the upcoming change in the classification of limited-access highways in the MAF/TIGER System. Generally, only interstate highways are currently in the S1100 classification, while non-interstate limited-access highways are classified as S1200. This change will make all limited-access highways S1100. The final description of the Primary Roads (S1100) classification is:

Primary roads are limited-access highways that connect to other roads only at interchanges and not at at-grade intersections. This category includes interstate highways, as well as all other highways with limited access (some of which are toll roads). Limited-access highways with only one lane in each direction, as well as those that are undivided, are also included under S1100.

The final description makes clear that secondary roads are not limited-access highways. The final description of Secondary Roads (S1200) is:

Secondary roads are main arteries that are not limited access, usually in the U.S. highway, state highway, or county highway systems. These roads have one or more lanes of traffic in each direction, may or may not be divided, and usually have at-grade intersections with many other roads and driveways. They often have both a local name and a route number.

Dated: July 13, 2017.
Ron S. Jarmin,
Performing the Non-Exclusive Functions and Duties of the Director, Bureau of the Census.

[FR Doc. 2017-15125 Filed 7-18-17; 8:45 am]

BILLING CODE 3510-07-P